DEPARTMENT OF ENERGY

Federal Energy Regulatory Commission

Combined Notice of Filings #1

Take notice that the Commission received the following electric corporate filings:

Docket Numbers: EC16-118-000.

Applicants: Castleton Energy Services, LLC, Castleton Power, LLC, Fortistar Castleton LLC.

Description: Application of Castleton Energy Services, LLC, et al. for Authorization Under Section 203 of the Federal Power Act and Requests for Waivers, Confidential Treatment and Expedited Action.

Filed Date: 5/10/16.

Accession Number: 20160510-5185.

Comments Due: 5 p.m. ET 5/31/16.

Take notice that the Commission received the following electric rate filings:

Docket Numbers: ER16-1277-001.

Applicants: White Pine Solar, LLC.

Description: Tariff Amendment: White Pine Solar, LLC's Amendment to Application for Market-Based Rates to be effective 5/24/2016.

Filed Date: 5/4/16.

Accession Number: 20160504-5225.

Comments Due: 5 p.m. ET 5/25/16.

Docket Numbers: ER16-1293-001.

Applicants: White Oak Solar, LLC.

Description: Tariff Amendment: White Oak Solar, LLC's Amendment to Application for Market-Based Rates to be effective 5/29/2016.

Filed Date: 5/4/16.

Accession Number: 20160504-5226.

Comments Due: 5 p.m. ET 5/25/16.

Docket Numbers: ER16-1354-001.

Applicants: Live Oak Solar, LLC.

Description: Tariff Amendment: Live Oak Solar, LLC's Amendment to the Application for Market-Based Rates to be effective 9/1/2016.

Filed Date: 5/4/16.

Accession Number: 20160504-5224.

Comments Due: 5 p.m. ET 5/25/16.

Docket Numbers: ER16-1662-000.

Applicants: 4C Acquisition, LLC.

Description: Application of 4C Acquisition, LLC for Waiver of OATT, OASIS and Standards of Conduct Requirements.

Filed Date: 5/6/16.

Accession Number: 20160506-5280.

Comments Due: 5 p.m. ET 5/27/16.

Docket Numbers: ER16-1663-000.

Applicants: Southern California Edison Company.

Description: Section 205(d) Rate Filing: Service Agreement with Rosamond Energy, LLC to be effective 5/5/2016.

Filed Date: 5/11/16.

Accession Number: 20160511-5099.

Comments Due: 5 p.m. ET 6/1/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 11, 2016.
Nathaniel J. Davis, Sr.,
Deputy Secretary.

[FR Doc. 2016-11708 Filed 5-17-16; 8:45 am]

BILLING CODE 6717-01-P